DEPARTMENT OF HOMELAND SECURITY

Coast Guard

[Docket No. USCG-2018-0786]

National Offshore Safety Advisory Committee

AGENCY: U.S. Coast Guard, Department of Homeland Security.

ACTION: Notice of Federal Advisory Committee meeting.

SUMMARY: The National Offshore Safety Advisory will meet in Houston, Texas to discuss committee matters relating to the safety of operations and other matters affecting the offshore oil and gas industry. All meetings will be open to the public.

DATES:

Meetings: The National Offshore Safety Advisory Committee and its subcommittees will meet Monday, September 10, 2018, and Tuesday, September 11, 2018. The Regulatory Reform Subcommittees will meet on Monday, September 10, 2018, from 1 p.m. to 2 p.m. and the Lessons Learned Subcommittee will meet from 2 p.m. to 4 p.m. (All times are Central Time). The full Committee will meet on Tuesday, September 11, 2018, from 8 a.m. to 6 p.m. Please note that these meetings may close early if the committee has completed its business.

Comments and Supporting Documentation: To ensure your comments are received by Committee members before the meetings, submit your written comments no later than August 31, 2018.

ADDRESSES: All meetings will be held at United States Coast Guard Sector Houston-Galveston, 13411 Hillard Street, Houston, Texas 77034.

Pre-Registration Information: Foreign nationals participating will be required to pre-register no later than August 27, 2018, to be admitted to the meeting. To pre-register, contact Mr. Patrick W. Clark, (202) 372-1358, patrick.w.clark@uscg.mil with the National Offshore Safety Advisory Committee in the subject line and provide your name, company, and telephone number; if a foreign national, also provide your country citizenship, passport country, country of residence, place of birth as well as your passport number and expiration date. All attendees will be required to provide a REAL-ID Act-compliant government-issued picture identification card in order to gain admittance to the building. For more information on REAL-ID and to check the compliance status of your state/territory please see https://www.dhs.gov/real-id and https://www.dhs.gov/real-id-public-faqs.

For information on facilities or services for individuals with disabilities or to request special assistance at the meetings, contact the individuals listed in the FOR FURTHER INFORMATION CONTACT section as soon as possible.

Written comments must be submitted using the Federal eRulemaking Portal at http://www.regulations.gov. If you encounter technical difficulties with comments submission, contact the individuals listed in the FOR FURTHER INFORMATION CONTACT section below.

Instructions: You are free to submit comments at any time, including orally at the meetings, but if you want Committee members to review your comment before the meetings, please submit your comments no later than August 31, 2018. We are particularly interested in the comments on the issues in the “Agenda” section below. You must include “Department of Homeland Security” and docket number USCG-2018-0786. Comments received will be posted without alteration at http://www.regulations.gov, including any personal information provided. For more about privacy and the docket, review the Privacy and Security Notice for the Federal Docket Management System at https://www.regulations.gov/privacyNotice.

Docket Search: For access to the docket to read documents or comments related to this notice, go to http://www.regulations.gov, and use “USCG-2018-0786” in the “Search” box, press Enter, and then click on the item you wish to view.

FOR FURTHER INFORMATION CONTACT: Lieutenant Commander William Nabach, Alternate Designated Federal Officer of the National Offshore Safety Advisory Committee, Commandant (CG-OES-2), U.S. Coast Guard, 2703 Martin Luther King Jr. Avenue SE, Stop 7509, Washington, DC 20593-7509; telephone (202) 372-1410, fax (202) 372-8382 or email william.a.nabach@uscg.mil, or Mr. Patrick Clark, telephone (202) 372-1358, fax (202) 372-8382 or email patrick.w.clark@uscg.mil.

SUPPLEMENTARY INFORMATION: Notice of this meeting is in compliance with the Federal Advisory Committee Act, (Title 5 U.S.C. Appendix). The National Offshore Safety Advisory Committee provides advice and recommendations to the Department of Homeland Security on matters relating to activities directly involved with, or in support of, the exploration of offshore mineral and energy resources insofar as they relate to matters within Coast Guard jurisdiction.

Agenda

Day 1

The National Offshore Safety Advisory Committee's subcommittees on Regulatory Review will meet on September 10, 2018 from 1:00 p.m. to 2:00 p.m. (Central Time) to review, discuss and formulate addendums to the recommendations presented to the full Committee during the March 27, 2018 public meeting. This will be followed by a meeting of the Lessons Learned Subcommittee from 2:00 p.m. to 4:00 p.m. (Central Time) where they will review, discuss and formulate recommendations for presentation to the Committee on September 11, 2018.

Day 2

The National Offshore Safety Advisory Committee will hold a public meeting on September 11, 2018 from 8 a.m. to 6 p.m. (Central Time) to review and discuss the progress of, and any reports and recommendations received from the above listed subcommittees from their deliberations. The Committee will then use this information and consider public comments in discussing and formulating recommendations to the United States Coast Guard. Public comments or questions will be taken at the discretion of the Designated Federal Officer during the discussion and recommendation portions of the meeting and during the public comment period, see Agenda item (5).

A complete agenda for the September 11, 2018 full Committee meeting is as follows:

(1) Welcoming remarks.

(2) General Administration and acceptance of minutes from March 28, 2018 National Offshore Safety Advisory Committee public meeting.

(3) Current Business—Presentation and discussion of progress from the Regulatory Review Subcommittee and from the Lessons Learned Subcommittee.

(4) New Business—

(a) Panel on Recognized Organizations.

(b) Panel discussion on Ballast Water Management and issues relating to Mobile Offshore Drilling Units.

(c) Bureau of Safety and Environmental Enforcement Operational Update.

(d) Maritime Administration Update.

(e) International Association of Drilling Contractors Presentation

(f) Introduction of new task statements:

(i) Use of Offshore Supply Vessels and other non-purpose built vessels for Restoration/Recovery Activities.

(ii) Standards for Letters of Non-Availability.

(5) Public comment period.

A copy of all meeting documentation will be available at https://homeport.uscg.mil/missions/ports-and-waterways/safety-advisory-committees/nosac/meetings no later than August 31, 2018. Alternatively, you may contact Lieutenant Commander William Nabach or Mr. Patrick Clark as noted in the FOR FURTHER INFORMATION CONTACT section above.

Public comments or questions will be taken throughout the meeting as the committee discusses the issues and prior to deliberations and voting. There will also be a public comment period at the end of the meeting. Speakers are requested to limit their comments to 3 minutes. Please note that the public comment period may end before the period allotted, following the last call for comments. Contact the individuals listed in the FOR FURTHER INFORMATION CONTACT section above to register as a speaker.

Dated: August 14, 2018.
Jeffery G. Lantz,
Director of Commercial Regulations and Standards.

[FR Doc. 2018-18070 Filed 8-21-18; 8:45 am]

BILLING CODE 9110-04-P